DEPARTMENT OF COMMERCE

National Oceanic and Atmospheric Administration

[RTID 0648-XB835]

Endangered and Threatened Species; Take of Anadromous Fish; Correction

AGENCY: National Marine Fisheries Service (NMFS), National Oceanic and Atmospheric Administration (NOAA), Commerce.

ACTION: Notice of availability of a proposed evaluation for a Tribal Resource Management Plan and request for comment; correction.

SUMMARY: On April 11, 2022, NMFS published a notice in the Federal Register announcing that the Northwest Indian Fisheries Commission (NWIFC) has submitted a Tribal Resource Management Plan (Tribal Plan) for NMFS to evaluate. NMFS has completed a proposed evaluation of how well the Tribal Plan fulfills ESA criteria, and the Secretary of Commerce is making that proposed evaluation available for public comment. That notice published on April 11, 2022, had an error in the URL link to view the proposed evaluation. This notice includes the correct URL link to view the proposed evaluation.

FOR FURTHER INFORMATION CONTACT: Shivonne Nesbit, Portland, OR (Ph: 503-231-6741, email: shivonne.nesbit@noaa.gov).

SUPPLEMENTARY INFORMATION: The notice of availability and request for comment (87 FR 21103; April 11, 2022) had an error in the URL link to view the proposed evaluation. This notice includes the correct URL link.

All other information in the document is unchanged.

Correction

In the Federal Register of April 11, 2022, in FR Doc 2022-07661, on page 21103, in the ADDRESSES section the last sentence is corrected to read as follows: https://www.fisheries.noaa.gov/action/tribal-resource-management-plan-trmp-northwest-indian-fisheries-commission.

Dated: April 14, 2022.
Jennifer Schultz,
Acting Chief, Endangered Species Division, Office of Protected Resources, National Marine Fisheries Service.

[FR Doc. 2022-08337 Filed 4-18-22; 8:45 am]

BILLING CODE 3510-22-P